FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 017649NF.

Name: Access Freight Forwarders, Inc.

Address: 8220 NW 30th Terrace, Miami, FL 33122.

Date Revoked: August 5, 2007.

Reason: Failed to maintain valid bonds.

License Number: 020187F.

Name: AES Logistics, Inc. dba AES Logistics dba AES Worldwide.

Address: 140 SW., 153rd Street, Burien, WA 98166.

Date Revoked: August 7, 2007.

Reason: Surrendered license voluntarily.

License Number: 017908N.

Name: Crescent Ocean Services, LLC.

Address: 5100 South Dawson Street, Ste. 200, Seattle, WA 98118.

Date Revoked: August 14, 2007.

Reason: Surrendered license voluntarily.

License Number: 019307NF.

Name: Inbox Cargo Solutions, Inc.

Address: 9515 NW., 13th Street, Miami, FL 33172.

Date Revoked: August 13, 2007.

Reason: Failed to maintain valid bonds.

License Number: 018337N.

Name: J & B Logistics, Inc.

Address: 500 Carson Plaza Drive, Ste. 109, Carson, CA 90746.

Date Revoked: August 9, 2007.

Reason: Failed to maintain a valid bond.

Sandra L. Kusumoto,
Director, Bureau of Certification and Licensing.

[FR Doc. E7-17139 Filed 8-28-07; 8:45 am]

BILLING CODE 6730-01-P